DEPARTMENT OF ENERGY

Office of Energy Efficiency and Renewable Energy

Request for Information (RFI) for Commercial Building Energy Asset Score

AGENCY: Office of Energy Efficiency and Renewable Energy, Department of Energy.

ACTION: Notice for Request for Information.

SUMMARY: The U.S. Department of Energy (DOE) has developed a preliminary commercial building energy asset score (hereinafter “score”). The score provides information regarding the efficiency of a building's major energy consuming systems and is intended to enable greater understanding of building performance and potential savings. DOE is developing this voluntary program as part of its effort to achieve a 20 percent improvement in the energy efficiency of commercial buildings by 2020.

DATES: Comments may be submitted on or before March 11, 2013.

ADDRESSES: Submit comments via email to asset.score@ee.doe.gov or send mail to: Joan Glickman, Attn: Commercial Building Asset Score RFI, EE-2J, 1000 Independence Ave., SW., Washington, DC 20585.

FOR FURTHER INFORMATION CONTACT: Joan Glickman, asset.score@ee.doe.gov.

SUPPLEMENTARY INFORMATION: The methodology used to score buildings and generate other relevant information is described in detail in the document entitled “Commercial Building Energy Asset Score: Program Overview and Technical Protocol Version 1.0” (hereinafter “the Protocol”). This request for information (RFI) seeks input on the following three components of the Protocol:

1. Data collection and validation;

2. The asset score report; and

3. Score durability.

This RFI provides an overview of the three program components. Additional detail on each of the three topics is provided in the Protocol. Stakeholders are encouraged to download the Protocol, which is available at the following link: http://www1.eere.energy.gov/buildings/commercial_initiative/pdfs/energy_asset_score_technical_protocol_phase1.pdf

This is the second RFI that DOE has issued related to the score. On August 8, 2011, DOE issued an RFI seeking input to inform overall development of the voluntary program. In addition, DOE conducted market research and outreach to better understand the perspective of industry and other interested groups. These efforts, along with initial pilot testing of the score with commercial building owners and operators in 2012, informed the development of the current score. More information on the asset score development process can be found at this site: http://www1.eere.energy.gov/buildings/commercial/assetscore.html.

DOE plans to continue to work with commercial building owners and operators to pilot test the score in 2013, including application of the score to additional building types. During this testing period, DOE will continue to refine the program as well as conduct additional analysis to inform future program development. Future development of the program will continue to be guided by previously established principles, as described in Section 2.2 of the Protocol. In brief, the system must produce credible scores and useful information at an affordable cost.

1. Data Collection and Validation

To obtain an energy asset score using the tool, building owners must input at least the minimum required set of information about a building. This “simple-level” use of the tool requires filling in approximately 20-30 data fields. Based on this information, the tool produces a preliminary report not intended to be used for official purposes such as public display or a real estate transaction. DOE recommends that building owners who want to display a report publicly or use the score for transactional purposes obtain an advanced report, which requires completion of approximately 60-80 fields of data and will likely also require that the data is validated and submitted by a person qualified to collect this information. When a user leaves a non-required data entry field blank, the tool uses a default value (an estimate based on the building type, location, and age) to complete the energy model.

A preliminary data input list for the simple and the advanced use levels can be found in Appendix C of the Protocol. DOE is collecting feedback on the data collection process through pilot testing. The full list will not be finalized until after a pilot period, during which users can respond to the usefulness of the results and the difficulty of data collection. The total time required for the simple-level score is estimated to be 6-8 hours; the total time required for the advanced-level data collection is estimated to be less than 20 hours. The simple-level time estimate was tested during the first pilot project in 2012 and will be further tested during the second pilot project in 2013. DOE invites comments from respondents on the preliminary data classification, data collection time, and method that can be used to maintain a balance between reasonable cost of data collection and acceptable accuracy of results.

In addition to seeking input on data required for the simple and advanced scores, DOE also invites input on methods that can be used to validate scores in cases where a score is being used for official purposes (e.g., marketing to lessees, real estate sales). Considerations might include assessor qualification requirements, methods for verifying or testing assessor qualifications, as well as quality assurance requirements and implementation options.

2. Energy Asset Score Report

The energy asset scoring tool produces a report that includes four sections: A whole-building score, a system evaluation, identified opportunities for improvement, and a description of building assets. The primary modeling output of the energy asset scoring tool is the energy use intensity (EUI), which is used to generate the energy asset score. No baseline buildings are needed because the calculated EUI is placed on a fixed scale. Two sets of scores and associated modeled EUIs are presented on the same energy asset score scale: Current score and potential score.

System evaluations are provided for building components, including envelope (roof, wall, window), lighting, heating, cooling, and service hot water systems. This information can help users identify parts of the building in need of attention. Two buildings with the same energy asset score may have different system evaluations. These evaluations can give users insight into their building's strengths and weaknesses. Based on the entered building information, the energy asset scoring tool also identifies potential improvement opportunities in each system evaluated.

Section 5 of the Protocol provides detailed descriptions of the score calculations, system evaluations methods, and the generation of a cost-effective upgrade package. DOE welcomes comments on critical information to be included in the energy asset score report and the methodology used to evaluate systems and generate recommendations.

3. Durability of Energy Asset Score

DOE expects that a building's score will remain current for at least 10 years, as long as the building does not undergo significant infrastructure changes including replacement of asset-related energy systems. If DOE makes any significant changes to the scoring methodology or tool, users will be notified and can receive an updated energy asset score report based on the latest version of the scoring tool.

After establishing 100-point scales for all relevant building types, DOE expects that the scales can remain static for at least 10 years. The overall efficiency of the U.S. building stock is not expected to change dramatically enough to warrant scale revisions within 10 years.

Although building equipment will degrade over time, equipment performance is affected by multiple factors, most of which are related to operation and maintenance. Given this combination of influences, equipment degradation is not accounted for in the score and will not affect the durability of the score.

DOE will incorporate new software releases of EnergyPlus as they are developed. However, DOE expects that most new features that extend modeling capability or increase simulation speed will have little effect on the energy asset score. If a software update of EnergyPlus or other updates to the scoring tool result in a change of the modeling results, prior users of the tool will receive an updated score report.

More information about the score durability is described in Section 3.2.4 of the Protocol. DOE welcomes stakeholder comments on the durability of the energy asset score scale and the period for which a building should be able to maintain its score.

Submitting Comments to DOE

DOE invites comments on all elements discussed above, as well as additional issues that respondents deem important. Specifically, DOE requests comments on (1) Data classification for the simple and advanced levels of tool use as well as score validation methods; (2) critical information to be included in the energy asset score report; and (3) durability of the energy asset scores.

Comments may be submitted in writing via direct mail or email within on or before March 11, 2013. Please limit comments to no more than 3 pages per program area, not to exceed a total of 8 pages.

Disclaimer and Important Notes

This is an RFI issued solely for information and program planning purposes; this RFI does not constitute a formal solicitation for proposals or abstracts. Your response to this notice will be treated as information only. DOE will not provide reimbursement for costs incurred in responding to this RFI. Respondents are advised that DOE is under no obligation to acknowledge receipt of the information received or provide feedback to respondents with respect to any information submitted under this RFI. Responses to this RFI do not bind DOE to any further actions related to this topic.

Confidential Business Information

According to 10 CFR 1004.11, any person submitting information he or she believes to be confidential and exempt by law from public disclosure should submit via email, postal mail, or hand delivery/courier two well-marked copies: One copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC, on February 1, 2013.
Kathleen B. Hogan,
Deputy Assistant Secretary for Energy Efficiency, Energy Efficiency and Renewable Energy.

[FR Doc. 2013-02753 Filed 2-6-13; 8:45 am]

BILLING CODE 6450-01-P